FEDERAL RETIREMENT THRIFT INVESTMENT BOARD

Sunshine Act; Notice of Meeting

Time and Date: 10 a.m. (Eastern Time) June 16, 2009.

Place: 4th Floor Conference Room, 1250 H Street, NW., Washington, DC 20005.

Status: Open to the public.

Matters to be Considered: 1. Approval of the minutes of the May 18, 2009 Board member meeting.

2. Thrift Savings Plan activity report by the Executive Director.

a. Participant Activity Report.

b. Investment Performance Report.

c. Legislative Report.

Contact Person for More Information: Thomas J. Trabucco, Director, Office of External Affairs, (202) 942-1640.

Dated: June 4, 2009.
Thomas K. Emswiler,
Secretary, Federal Retirement Thrift Investment Board.

[FR Doc. E9-13520 Filed 6-4-09; 4:15 pm]

BILLING CODE 6760-01-P